SURFACE TRANSPORTATION BOARD

Privacy Act of 1974; System of Records

ACTION: Notice of a new system of records.

AGENCY: Surface Transportation Board.

SUMMARY: This system will allow the Surface Transportation Board (STB) to collect, maintain and track records on employees and applicants for employment with disabilities who requested or received reasonable accommodation from the STB, and to allow the STB to collect, maintain and track records on employees who requested or received religious accommodations from the STB.

DATES: Please submit comments on or before January 14, 2022. This new system is effective upon publication in today's Federal Register, with the exception of the routine uses, which are effective January 14, 2022.

ADDRESSES: Address comments concerning this notice to Marquis Toson, Privacy Officer, privacy@stb.gov. Comments may also be sent to Marquis Toson, Privacy Officer, Surface Transportation Board, 395 E Street SW, Washington, DC 20423, (202) 245-0458 (Fax).

FOR FURTHER INFORMATION CONTACT: Marquis Toson, Surface Transportation Board, 395 E Street, SW, Washington, DC 20423, (202) 245-0458 (Fax), privacy@stb.gov.

SUPPLEMENTARY INFORMATION: Under the Privacy Act of 1974 (5 U.S.C. 552a), as amended, Federal agencies are required to publish a system of records notice in the Federal Register informing the public of any new or modified system of records maintained by the agency and searched by personal identifier. The following notice describes a new system of records.

System Name and Number:

Religious and Disability Reasonable Accommodation Records within the Office 365 MT system.

Security Classification:

Unclassified

System Location:

395 E Street SW, Washington, DC 20423, Office 365 MT is a multi-tenant cloud computing-based subscription service offering from Microsoft.

System Manager(S):

Greg Marzetta, Surface Transportation Board, 395 E Street SW, Suite 1027.

Authority for Maintenance of the System:

Rehabilitation Act of 1973; 29 U.S.C. Section 701 et seq. Americans with Disabilities Act (ADA) as amended; 42 U.S.C. 12101 et seq. Title VII of the Civil Rights Act of 1964; 42 U.S.C. 2000e et seq. Executive Order 13164 (July 28, 2000).

Purpose(S) of the System:

To allow the STB to collect, maintain and track records on current and former employees and applicants for employment with disabilities, who request and receive reasonable accommodation, as required by Sections 501, 504, and 701 of the Rehabilitation Act of 1973 and the ADA Amendments Act of 2008. In addition, to allow the STB to collect, maintain and track records on current and former employees and applicants and applicants who request religious accommodation as required by Title VII of the Civil Rights Act of 1964. The system will track the receipt, processing and disposition of requests for disability accommodation and religious accommodation to comply with applicable laws and regulations and to preserve and maintain confidentiality.

Categories of Individuals Covered by the System:

Current and former Surface Transportation Board employees and applicants for employment at the Surface Transportation Board.

Categories of Records in the System:

Case number, name, accommodation requested, date of request, job position, office/division, accommodation type, impairment, disability type, description of religious belief and/or practices, and case notes.

Record Source Categories:

Information in this system comes from the employee/applicant to whom it applies (or their representative), members of the STB Reasonable Accommodation Advisory Panel, an employee's supervisor, other required STB personnel and/or the treating physician(s) or medical institution.

Routine Uses of Records Maintained in the System, Including Categories of Users and Purposes of Such Uses:

In addition to the disclosures permitted under subsection (b) of the Privacy Act, the STB may disclose information contained in this system of records without the consent of the subject individual, if the disclosure is compatible with the purpose for which the records was collected under the following routine uses:

a. A record from this system of records may be disclosed as a routine use to provide information to OPM and/or MSPB for review, audit, or reporting purposes;

b. A record from this system of records that indicates a violation of civil or criminal law regulation or order may be referred as a routine use to a Federal, State, or local agency that has authority to investigate, enforce, implement or prosecute such laws;

c. A record from this system of records may be disclosed as a routine use to a Federal, State, or local agency, to obtain information relevant to an STB decision concerning hiring or retaining an employee, letting a contract, or issuing a security clearance, license, grant or other benefit;

d. A record from this system of records may be disclosed as a routine use, if it is relevant and necessary, in the course of discovery; in presenting evidence to a court, magistrate, administrative tribunal, or grand jury or pursuant to a qualifying order from any of those; in alternative dispute resolution proceedings, such as arbitration or mediation; or in the course of settlement negotiations;

e. A record from this system of records may be disclosed as a routine use to a Congressional office from the record of an individual in response to an inquiry from the Congressional office made at the request of that individual;

f. A record from this system of records may be disclosed as a routine use to STB experts or consultants, and those under contract with the STB on a “need-to-know” basis for a purpose within the scope of an STB task. This access will be granted to an STB contractor or employee of such contractor by a system manager only after satisfactory justification has been provided to the system manager;

g. A record from this system of records may be disclosed as a routine use to appropriate agencies, entities, and persons when (1) STB suspects or has confirmed that there has been a breach of the systems of records, (2) STB has determined that as a result of the suspected or confirmed breach there is a risk of harm to individuals, STB (including its information systems, programs, and operations), the Federal Government, or national security; and (3) the disclosure made to such agencies, entities, and persons is reasonably necessary to assist in connection with STB efforts to respond to the suspected or confirmed breach or to prevent, minimize, or remedy such harm; and

h. A record from this system of records may be disclosed as a routine use to another Federal agency or Federal entity, when the STB determines that information from this system of records is reasonably necessary to assist the recipient agency or entity in (1) responding to a suspected or confirmed breach or (2) preventing, minimizing, or remedying the risk of harm to individual, the recipient agency or entity (including its information systems, programs, and operations), the Federal Government, or national security, resulting from a suspected or confirmed breach.

Policies and Practices for Storage of Records:

Electronic records are stored on a secure server. Sensitive or confidential paper records are stored in a secured room or filing cabinet.

Policies and Practices for Retrieval of Records:

Records are retrieved by employee/requester name or case number.

Policies and Practices for Retention and Disposal of Records:

Records are retained under the National Archives and Records Administration's General Records Schedule 2.3: Employee Relations Records; 020 Reasonable Accommodation Case Files, Temporary. Destroy 3 years after employee separation from the agency or all appeals are concluded whichever is later, but longer retention is authorized if required for business use.

Administrative, Technical, And Physical Safeguards:

Only personnel with a “need to know” are authorized to access the records. Network access to electronic records is generally controlled by PIV-enabled or password-enabled authenticated user and limited according to job function. Additionally, access to the electronic records is only available from STB government furnished equipment. Access to hard-copy records is controlled by lock and key or by access to a secure area and is limited according to job function and “need to know”.

Record Access Procedures:

Same as “Notification Procedures”

Contesting Record Procedures:

Same as “Notification Procedures”

Notification Procedures:

Individuals seeking to determine whether this system of records contains information about them should write to the Freedom of Information Act or Privacy Act Officer at Surface Transportation Board, 395 E Street SW, Washington, DC 20423, (202) 245-0458 (Fax), privacy@stb.gov.

Exemptions Promulgated for the System:

None.

History:

None.

Dated: December 21, 2021.
Jeffrey Herzig,
Clearance Clerk.

[FR Doc. 2021-28022 Filed 12-23-21; 8:45 am]

BILLING CODE 4915-01-P